DEPARTMENT OF COMMERCE

Foreign-Trade Zones Board

[Docket 19-2012]

Foreign-Trade Zone 204—Tri-Cities Area, TN/VA; Application for Reorganization Under Alternative Site Framework

An application has been submitted to the Foreign-Trade Zones (FTZ) Board (the Board) by the Tri-Cities Airport Commission, grantee of FTZ 204, requesting authority to reorganize the zone under the alternative site framework (ASF) adopted by the Board (74 FR 1170, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on March 20, 2012.

FTZ 204 was approved by the Board on October 18, 1994 (Board Order 706, 59 FR 54432, 10/31/94) and expanded on June 7, 2002 (Board Order 1233, 67 FR 41393-41394, 06/18/02) and on June 22, 2010 (Board Order 1691, 75 FR 38979-38980).

The current zone project includes the following sites: Site 1 (977 acres, expires 6/30/15)—Tri-Cities Regional Airport complex, 2525 Highway 75, Blountville, Sullivan County, TN; Site 2 (26 acres, expires 6/30/15)—Johnson City Chemical Company, 402 Steel Street, Johnson City, Washington County, TN; Site 3 (330 acres, expires 6/30/15)—Northeast Tennessee Business Park, intersection of TN 357 and Highway 75, Kingsport, Sullivan County, TN; Site 4 (129 acres, expires 6/30/15)—Bristol Tennessee Industrial Park, SR394, Bristol, Sullivan County, TN; Site 5 (799 acres)—Tri-County Industrial Park, Industrial Park Road, Piney Flats, Sullivan County, TN; Site 6 (206 acres, 6/30/15)—Regional Med-Tech Center, Med-Tech Parkway, Johnson City, Washington County, TN; Site 7 (103 acres, expires 6/30/15)—Linden/Hairston Industrial Park, Linden Drive at Bonham Road, Bristol, Washington County, VA; Site 8 (2,100 acres, expires 6/30/15)—Holston Business and Technology Park, 4509 West Stone Drive, Kingsport, Hawkins County, TN; Site 9 (134 acres, expires 6/30/15)—Washington County Industrial Park, Cherry Hill Road, Johnson City, Washington County, TN; Site 10 (113 acres, expires 8/31/12)—Oak Park Industrial Park, Westinghouse Road/Rt. 11, Washington County, VA; and, Site 11 (226 acres, expires 6/30/17)—The Partnership Park II, 2504 Weaver Pike, Bristol, Sullivan County, TN.

The grantee's proposed service area under the ASF would be the Counties of Sullivan, Hawkins, Greene, Washington, Unicoi, Carter, Hamblen, and Johnson, Tennessee and the Counties of Buchanan, Dickenson, Wise, Lee, Russell, Scott and Washington, Virginia and the Cities of Norton and Bristol, Virginia as described in the application. If approved, the grantee would be able to serve sites throughout the service area based on companies' needs for FTZ designation. The proposed service area is within/adjacent to the Tri-Cities Customs and Border Protection port of entry.

The applicant is requesting authority to reorganize its existing zone project under the ASF as follows: Sites 1 through 11 would become magnet sites. The ASF allows for the possible exemption of one magnet site from the “sunset” time limits that generally apply to sites under the ASF, and the applicant proposes that proposed magnet Site 1 be so exempted. Because the ASF only pertains to establishing or reorganizing a general-purpose zone, the application would have no impact on FTZ 204's authorized subzone.

In accordance with the Board's regulations, Kathleen Boyce of the FTZ Staff is designated examiner to evaluate and analyze the facts and information presented in the application and case record and to report findings and recommendations to the Board.

Public comment is invited from interested parties. Submissions (original and 3 copies) shall be addressed to the Board's Executive Secretary at the address below. The closing period for their receipt is May 25, 2012. Rebuttal comments in response to material submitted during the foregoing period may be submitted during the subsequent 15-day period to June 11, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Kathleen Boyce at Kathleen.Boyce@trade.gov or (202) 482-1346.

Dated: March 20, 2012.
Andrew McGilvray,
Executive Secretary.

[FR Doc. 2012-7275 Filed 3-23-12; 8:45 am]

BILLING CODE P